DEPARTMENT OF LABOR

Employment and Training Administration

[TA-W-40,572]

Northeast Bleach and Dye, Inc., Schuylkill Haven, PA; Notice of Revised Determination on Reconsideration

By letter of April 15, 2002, the company, requested administrative reconsideration regarding the Department's Negative Determination Regarding Eligibility to Apply for Worker Adjustment Assistance, applicable to the workers of the subject firm.

The initial investigation resulted in a negative determination issued on March 18, 2002, based on the finding that imports of dyed yarn and fabric did not contribute importantly to worker separations at the subject plant. The denial notice was published in the Federal Register on March 29, 2002 (67 FR 15225).

To support the request for reconsideration, the company indicated that an affiliated facility (Tiffany Knits, Inc., Schuylkill Haven, Pennsylvania) located at the same location as the subject plant, was certified on May 13, 2002 for TAA under TA-W-40,603. The applicant further stated that the subject plant was in direct support of that facility and had the same customer base.

A review of the allegation and additional information provided by the company shows that the subject firm dyed circular knit fabrics (finished) for a TAA certified affiliated facility (Tiffany Knits, Inc., Schuylkill, Pennsylvania) and shipped the dyed circular knitting fabric to the customers. The two companies were owned and operated by the same owner, and served the same customer base. A review of the survey conducted for Tiffany Knits, Inc. shows that a major customer increased their imports of finished circular knit fabric during the relevant period, thus impacting the workers of the subject plant.

Conclusion

After careful review of the additional facts obtained on reconsideration, I conclude that increased imports of articles like or directly competitive with those produced at Northeast Bleach and Dye, Inc., Schuylkill Haven, Pennsylvania, contributed importantly to the declines in sales or production and to the total or partial separation of workers at the subject firm. In accordance with the provisions of the Act, I make the following certification:

All workers of Northeast Bleach and Dye, Inc., Schuylkill Haven, Pennsylvania, who became totally or partially separated from employment on or after November 13, 2000 through two years from the date of this certification, are eligible to apply for adjustment assistance under Section 223 of the Trade Act of 1974.

Signed in Washington, DC, this 30th day of May, 2002.
Edward A. Tomchick,
Director, Division of Trade Adjustment Assistance.

[FR Doc. 02-14798 Filed 6-11-02; 8:45 am]

BILLING CODE 4510-30-P